DEPARTMENT OF HOMELAND SECURITY

Federal Emergency Management Agency

[Docket ID FEMA-2015-0001; Internal Agency Docket No. FEMA-B-1516]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 21, 2015.
Roy E. Wright,
Deputy Associate Administrator for Mitigation, Department of Homeland Security, Federal Emergency Management Agency.

State and county | Location and case No. | Chief executive officer of community | Community map repository | Online location of letter of map revision | Effective date of modification | Community No.
Arizona:
Pima | Town of Marana (14-09-3397P) | Mr. Gilbert Davidson, Manager, Town of Marana, 11555 West Civic Center Drive, Marana, AZ 85653 | Municipal Complex, 11555 West Civic Center Drive, Marana, AZ 85653 | http://www.msc.fema.gov/lomc | Aug. 24, 2015 | 040118
Pima | Unincorporated areas of Pima County (14-09-3397P) | Mr. Chuck Huckelberry, Pima County Administrator, 130 West Congress Street, 10th Floor, Tucson, AZ 85701 | Pima County Regional, Flood Control District, 97 East Congress Street, Tucson, AZ 85701 | http://www.msc.fema.gov/lomc | Aug. 24, 2015 | 040073
Arkansas:
Drew | City of Monticello (14-06-3181P) | The Honorable Zackery Tucker, Mayor, City of Monticello, P.O. Box 505, Monticello, AR 71657 | City Hall, 203 West Gaines Street, Monticello, AR 71655 | http://www.msc.fema.gov/lomc | Aug. 13, 2015 | 050074
Drew | Unincorporated areas of Drew County (14-06-3181P) | The Honorable Robert Akin, Drew County Judge, 210 South Main Street, Monticello, AR 71655 | Drew County Courthouse, 210 South Main Street, Monticello, AR 71655 | http://www.msc.fema.gov/lomc | Aug. 13, 2015 | 050430
Pennsylvania:
Delaware | Township of Edgmont (14-03-3292P) | The Honorable Ronald Gravina, Chairman, Township of Edgmont Board of Supervisors, 1000 Gradyville Road, Gradyville, PA 19039 | Edgmont Township, Municipal Building, 1000 Gradyville Road, Gradyville, PA 19039 | http://www.msc.fema.gov/lomc | Jul. 9, 2015 | 420414
Luzerne | Borough of Dallas (14-03-0189P) | The Honorable Lee W. Eckert, Borough Council President, 25 Main Street, Dallas, PA 18612 | Borough Administration Building, 25 Main Street, Dallas, PA 18612 | http://www.msc.fema.gov/lomc | Aug. 20, 2015 | 421825
Texas:
Bell | City of Killeen (14-06-4047P) | The Honorable Scott Cosper, Mayor, City of Killeen, P.O. Box 1329, Killeen, TX 76540 | Building and Inspections Division, 100 East Avenue C, Killeen, TX 76541 | http://www.msc.fema.gov/lomc | Jul. 9, 2015 | 480031
Bell | Unincorporated areas of Bell County (14-06-4047P) | The Honorable Jon. H. Burrows, Bell County Judge, P.O. Box 768, Belton, TX 76513 | Bell County Engineer's Office, 206 North Main Street, Belton, TX 76513 | http://www.msc.fema.gov/lomc | Jul. 9, 2015 | 480706
Bell | City of Nolanville (14-06-2754P) | The Honorable Dennis Biggs, Mayor, City of Nolanville, P.O. Box 128, Nolanville, TX 76559 | City Hall, 101 North 5th Street, Nolanville, TX 76559 | http://www.msc.fema.gov/lomc | Jul. 13, 2015 | 480032
Bexar | City of San Antonio (15-06-1148P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Aug. 19, 2015 | 480045
Bexar | City of San Antonio (14-06-3050P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Jul. 28, 2015 | 480045
Bexar | City of San Antonio (14-06-3615P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Jul. 16, 2015 | 480045
Bexar | City of San Antonio (15-06-0336P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Jul. 27, 2015 | 480045
Bexar | Unincorporated areas of Bexar County (15-06-0336P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | Jul. 27, 2015 | 480035
Brazoria | City of Pearland (14-06-3203P) | The Honorable Tom Reid, Mayor, City of Pearland, 3519 Liberty Drive, Pearland, TX 77581 | City Hall Annex, 3523 Liberty Drive, Pearland, TX 77581 | http://www.msc.fema.gov/lomc | Jul. 31, 2015 | 480077
Denton | City of Highland Village (14-06-4109P) | The Honorable Charlotte Wilcox, Mayor, City of Highland Village, 1000 Highland Village Road, Highland Village, TX 75077 | City Hall, 1000 Highland Village Road, Highland Village, TX 75077 | http://www.msc.fema.gov/lomc | Aug. 6, 2015 | 481105
Harris | Unincorporated areas of Harris County (14-06-2578P) | The Honorable Edward M. Emmett, Harris County Judge, 1001 Preston Street, Suite 911, Houston, TX 77002 | Harris County Permit Office, 10555 Northwest Freeway, Suite 120, Houston, TX 77092 | http://www.msc.fema.gov/lomc | Jul. 13, 2015 | 480287
Hays | City of San Marcos (14-06-1023P) | The Honorable Daniel Guerrero, Mayor, City of San Marcos, 630 East Hopkins Street, San Marcos, TX 78666 | Permit Center Building, 630 East Hopkins Street, San Marcos, TX 78666 | http://www.msc.fema.gov/lomc | Aug. 5, 2015 | 485505
Parker | City of Weatherford (15-06-0035P) | The Honorable Dennis Hooks, Mayor, City of Weatherford, 303 Palo Pinto Street, Weatherford, TX 76086 | Utility Department Service Center, 917 Eureka Street, Weatherford, TX 78086 | http://www.msc.fema.gov/lomc | Jul. 23, 2015 | 480522
Rockwall | City of Rockwall (14-06-4684P) | The Honorable Jim Pruitt, Mayor, City of Rockwall, 385 South Goliad Street, Rockwall, TX 75087 | Engineering Department, 385 South Goliad Street, Rockwall, TX 75087 | http://www.msc.fema.gov/lomc | Jul. 13, 2015 | 480547
Tarrant | City of Fort Worth (14-06-3505P) | The Honorable Betsy Price, Mayor, City of Fort Worth, 1000 Throckmorton Street, Fort Worth, TX 76102 | City Hall, 1000 Throckmorton Street, Fort Worth, TX 76102 | http://www.msc.fema.gov/lomc | Jul. 29, 2015 | 480596
Virginia: Fauquier | Unincorporated areas of Fauquier County (14-03-2615P) | Mr. Paul McCulla, Fauquier County Administrator, 10 Hotel Street, Suite 204, Warrenton, VA 20186 | Fauquier County Zoning and Development Services, Department of Community Develpment, 29 Ashby Street, Suite 310, Warrenton, VA 20186 | http://www.msc.fema.gov/lomc | Jul. 30, 2015 | 510055
West Virginia: Kanawha. | Unincorporated areas of Kanawha County (15-03-0904P) | The Honorable W. Kent Carper, President, Kanawha County Commission, P.O. Box 3227, Charleston, WV 25336 | Kanawha County Annex Building, 407 Virginia Street East, Charleston, WV 25301 | http://www.msc.fema.gov/lomc | Jul. 6, 2015 | 540070

[FR Doc. 2015-14013 Filed 6-8-15; 8:45 am]

BILLING CODE 9110-12-P